DEPARTMENT OF THE INTERIOR

Geological Survey

[GX18LR000F60100; OMB Control Number 1028-0053]

Agency Information Collection Activities; Submission to the Office of Management and Budget for Review and Approval; Nonferrous Metals Surveys

AGENCY: U.S. Geological Survey (USGS), Interior.

ACTION: Notice of information collection; request for comment.

SUMMARY: In accordance with the Paperwork Reduction Act of 1995, the U.S. Geological Survey is proposing to renew an information collection.

DATES: Interested persons are invited to submit comments on or before June 29, 2018.

ADDRESSES: Send written comments on this information collection request (ICR) to the Office of Management and Budget's Desk Officer for the Department of the Interior by email at OIRA_Submission@omb.eop.gov; or via facsimile to (202) 395-5806. Please provide a copy of your comments to U.S. Geological Survey, Information Collections Officer, 12201 Sunrise Valley Drive MS 159, Reston, VA 20192; or by email to gs-info_collections@usgs.gov. Please reference OMB Control Number 1028-0053 in the subject line of your comments.

FOR FURTHER INFORMATION CONTACT: To request additional information about this ICR, contact Elizabeth S. Sangine by email at escottsangine@usgs.gov, or by telephone at 703-648-7720. You may also view the ICR at http://www.reginfo.gov/public/do/PRAMain.

SUPPLEMENTARY INFORMATION: In accordance with the Paperwork Reduction Act of 1995, we provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on February 16, 2018, 83 FR 7065. One comment was received from Bureau of Economic Analysis supporting the collection of this data as nationally important.

We are again soliciting comments on the proposed ICR that is described below. We are especially interested in public comment addressing the following issues: (1) Is the collection necessary for the USGS to perform its duties, including whether the information is useful; (2) the accuracy of the agency's estimate of the burden of the proposed collection of information; (3) ways to enhance the quality, usefulness, and clarity of the information to be collected; and (4) how to minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

An agency may not conduct or sponsor and a person is not required to respond to a collection of information unless it displays a currently valid OMB control number.

Abstract: Respondents to these forms supply the USGS with domestic production and consumption data for 22 ores, concentrates, and metals, some of which are considered strategic and critical to assist in determining stockpile goals. These data and derived information will be published as chapters in Minerals Yearbooks, monthly Mineral Industry Surveys, annual Mineral Commodity Summaries, and special publications, for use by Government agencies, industry education programs, and the general public.

Title of Collection: Nonferrous Metals Surveys.

OMB Control Number: 1028-0053.

Form Number: Various, 27 forms.

Type of Review: Extension of a currently approved collection.

Respondents/Affected Public: Business or Other-For-Profit Institutions: U.S. nonfuel minerals producers and consumers of nonferrous metals and related materials.

Total Estimated Number of Annual Responses: 3,647.

Total Estimated Number of Annual Burden Hours: 2,636 hours.

Total Estimated Number of Annual Respondents: 1,400.

Estimated Completion Time per Response: 20 minutes to 90 minutes.

Respondent's Obligation: Voluntary.

Frequency of Collection: Monthly, Quarterly, or Annually.

Total Estimated Annual Nonhour Burden Cost: There are no “nonhour cost” burdens associated with this IC.

The authorities for this action are the Paperwork Reduction Act of 1995 (44 U.S.C. 3501, et seq.), the National Materials and Minerals Policy, Research and Development Act of 1980 (30 U.S.C. 1601 et seq.), and the National Mining and Minerals Policy Act of 1970 (30 U.S.C. 21(a)).

Michael J. Magyar,
Associate Director, National Minerals Information Center.

[FR Doc. 2018-11510 Filed 5-29-18; 8:45 am]

BILLING CODE 4338-11-P